DEPARTMENT OF AGRICULTURE

Commodity Credit Corporation

7 CFR Part 1479

RIN 0560-AG14

Agricultural Disaster and Market Assistance; Correction

AGENCY: Commodity Credit Corporation, USDA.

ACTION: Interim rule; correction.

SUMMARY: This document contains corrections to the interim rule published in the Federal Register on Thursday, June 8, 2000 (65 FR 36549). This document corrects the section entitled “Producer eligibility”, which was incorrectly numbered and the paragraphs of that section, which were incorrectly designated.

EFFECTIVE DATE: August 4, 2000.

FOR FURTHER INFORMATION CONTACT: Tom Witzig, Chief, Regulatory Review and Foreign Investment Disclosure Branch, Operations Review and Analysis Staff, Farm Service Agency (FSA), U.S. Department of Agriculture, STOP 0540, 1400 Independence Avenue, SW, Washington, DC, 20250-0540, telephone (202) 205-5851, or by e-mail to: tom_witzig@wdc.fsa.usda.gov.

Correction of Publication

Accordingly, in the interim rule published June 8, 2000, (65 FR 36549) make the following correction:

On page 36584, in the second column, the section number “ § 1439.7” for the section entitled “Producer eligibility” is corrected to read “§ 1479.7” and paragraphs (d) through (f) of § 1479.7 are redesignated as paragraphs (c) through (e), respectively.

Signed at Washington, DC, on July 27, 2000.
Parks Shackelford,
Acting Executive Vice President, Commodity Credit Corporation.

[FR Doc. 00-19811 Filed 8-3-00; 8:45 am]

BILLING CODE 3410-05-U